DEPARTMENT OF VETERANS AFFAIRS

Advisory Committee on the Readjustment of Veterans, Notice of Meeting

The Department of Veterans Affairs (VA) gives notice under the Federal Advisory Committee Act, 5 U.S.C. ch. 10., that the Advisory Committee on the Readjustment of Veterans will meet virtually on February 5, 2025-February 6, 2025. The sessions will begin and end as follows:

Dates | Times | Locations | Open session
February 5, 2025 | 9:00 a.m. to 10:00 a.m. Eastern Standard Time (EST) | Via Microsoft Teams link shown below | Yes.
February 5, 2025 | 10:00 a.m. to 1:00 p.m. EST | Lancaster Pennsylvania Vet Center, Via Microsoft Teams link shown below | No.
February 5, 2025 | 1:00 p.m. to 2:15 p.m. EST | Via Microsoft Teams link shown below | Yes.
February 5, 2025 | 2:15 p.m. to 4:00 p.m. EST | Veterans Panel from various Vet Centers, Via Microsoft Teams link shown below | No.
February 5, 2025 | 4:00 p.m. to 4:30 p.m. EST | Via Microsoft Teams link shown below | Yes.
February 6, 2025 | 9:00 a.m. to 4:30 p.m. EST | Via Microsoft Teams link shown below | Yes.

The meeting sessions are open to the public, except during the time the Committee is participating in focus group discussions or conducting tours of VA facilities. Tours of VA facilities are closed, to protect Veterans' privacy and personal information, in accordance with 5 U.S.C 552b(c)(6). The meeting will be held via Microsoft Teams.

The purpose of the Committee is to advise the VA regarding the provision by VA of benefits and services to assist Veterans in the readjustment to civilian life. The Committee, comprised of 13 subject matter experts, advises the Secretary through the VA Readjustment Counseling Service (RCS). In carrying out this duty, the Committee shall take into account the needs of Veterans who served in combat theaters of operation.

On February 5, 2025, the meeting will be open to the public from 9:00 a.m. to 10:00 a.m. EST for the Chair's call to order, reviewing the agenda, introductions, and a briefing from RCS Chief Officer. The meeting will convene a closed session from 10:00 a.m. to 1:00 p.m. EST to conduct a virtual site visit of the Lancaster Vet Center and conduct a focus group with staff, which may include sensitive clinical discussions. Tours of VA facilities are closed, to protect Veterans' privacy and personal information, in accordance with 5 U.S.C 552b(c)(6). The Committee will reconvene an open session at 1:00 p.m. to 2:15 p.m. EST for a presentation from three Vet Center Directors. From 2:15 p.m. to 4:00 p.m. EST, the Committee will again convene a closed session to hear from a Veterans panel discussion on sensitive or Veterans' privacy and personal information; and will reconvene publicly again at 4:00 p.m. EST for a Committee discussion and meeting adjournment.

On February 6, 2025, the entire day will be open to the public and will consist of presentations and discussions with Designated Federal Officers from other VA Federal advisory committees, as well as a committee discussion focused on mapping out the upcoming annual report.

Time will be allotted for the public to provide comments starting at 3:30 p.m. EST and ending no later than 4:00 p.m. EST. The comment period may end sooner if no comments are presented or they are exhausted before the end time. Individuals interested in providing comments during the public comment period are allowed no more than three minutes or their statements. Additionally, the Committee will accept written comments from interested parties on issues outlined in the meeting agenda or other issues regarding the readjustment of Veterans. Parties should contact Mr. Joshua Mathis via email at Joshua.Mathis@va.gov or by mail at Department of Veterans Affairs, Readjustment Counseling Service (10RCS), 810 Vermont Avenue, Washington, DC 20420.

Any member of the public seeking additional information should contact Mr. Mathis at the email address noted above.

Join On Your Computer or Mobile App:

February 5, 2025

https://teams.microsoft.com/l/meetup-join/19%3ameeting_OWJhZmYyNTgtMmFlYS00YmViLTkxYTMtYjMwYmM3MTVlZmEz%40thread.v2/0?context=%7b%22Tid%22%3a%22e95f1b23-abaf-45ee-821d-b7ab251ab3bf%22%2c%22Oid%22%3a%223370e162-17c2-4423-8174-023497fa6815%22%7d. You can dial in by phone at 1-872-701-0185 and use the access code 263 796 401#.

February 6, 2025

https://teams.microsoft.com/l/meetup-join/19%3ameeting_YWRjZDNiNWItN2E1Zi00OWY5LTkyNzctZjc0YzgwOTQ1Zjk3%40thread.v2/0?context=%7b%22Tid%22%3a%22e95f1b23-abaf-45ee-821d-b7ab251ab3bf%22%2c%22Oid%22%3a%223370e162-17c2-4423-8174-023497fa6815%22%7d.

You can dial in by phone at 1-872-701-0185 and use the access code 580 084 276#.

Dated: January 16, 2025.
Jelessa M. Burney,
Federal Advisory Committee Management Officer.

[FR Doc. 2025-01520 Filed 1-22-25; 8:45 am]

BILLING CODE 8320-01-P